ENVIRONMENTAL PROTECTION AGENCY

[EPA-HQ-OW-2003-0013: FRL 9919-78-OEI]

Information Collection Request Submitted to OMB for Review and Approval; Comment Request; Title IV of the Public Health Security and Bioterrorism Preparedness and Response Act of 2002: Drinking Water Security and Safety

AGENCY: Environmental Protection Agency (EPA).

ACTION: Notice.

SUMMARY: The U.S. Environmental Protection Agency (EPA) has submitted an information collection request (ICR), “Title IV of the Public Health Security and Bioterrorism Preparedness and Response Act of 2002: Drinking Water Security and Safety” (EPA ICR No. 2103.05, OMB Control No. 2040-0253) to the Office of Management and Budget (OMB) for review and approval in accordance with the Paperwork Reduction Act (44 U.S.C. 3501 et seq.). This is a proposed extension of the ICR, which is currently approved through November 30, 2014. Public comments were previously requested via the Federal Register on July 16, 2014, during a 60-day comment period. This notice allows for an additional 30 days for public comments. A fuller description of the ICR is provided in this request, including its estimated burden and cost to the public. An Agency may not conduct or sponsor and a person is not required to respond to a collection of information unless it displays a currently valid OMB control number.

DATES: Additional comments may be submitted on or before December 26, 2014.

ADDRESSES: Submit your comments, referencing Docket ID Number EPA-HQ-OW-2003-0013, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen Edwards, Water Security Division, Office of Ground Water and Drinking Water, Mailcode: 4608T, Environmental Protection Agency, 1200 Pennsylvania Ave. NW., Washington, DC 20460; telephone number: 202-564-3797; fax number: 202-566-0055; email address: Edwards.Karen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Section 1433 of the Safe Drinking Water Act, as amended by the Bioterrorism Act, requires each community water system serving a population of more than 3,300 people to conduct a vulnerability assessment of its water system and to prepare or revise an emergency response plan that incorporates the results of the vulnerability assessment. These requirements are mandatory under the statute. EPA will continue to use the information collected under this ICR to determine whether community water systems have conducted vulnerability assessments and prepared or revised emergency response plans in compliance with Section 1433. EPA is required to protect all vulnerability assessments and all information derived from them from disclosure to unauthorized parties and has established an Information Protection Protocol describing how that will be accomplished.

Form Numbers: None.

Respondents/affected entities: Entities potentially affected by this action are community water systems serving more than 3,300 persons.

Respondent's obligation to respond: Mandatory (Section 1433 of the Safe Drinking Water Act, as amended by the Bioterrorism Act).

Estimated number of respondents: 80 (total).

Frequency of response: Once.

Total estimated burden: 8,994 hours (per year). Burden is defined at 5 CFR 1320.03(b).

Total estimated cost: $803,501 (per year), includes $337 annualized capital or operation & maintenance costs.

Changes in the Estimates: There is no increase of hours in the total estimated respondent burden compared with the ICR currently approved by OMB. The cost increase is an adjustment to the respondent burden estimates to account for inflation.

Courtney Kerwin,
Acting Director, Collection Strategies Division.

[FR Doc. 2014-27816 Filed 11-24-14; 8:45 am]

BILLING CODE 6560-50-P